Title 3—

The President

Memorandum of November 7, 2020

Delegation of Authority Under Section 506(a)(1) of the Foreign Assistance Act of 1961, as Amended

Memorandum for the Secretary of State

By the authority vested in me as President by the Constitution and the laws of the United States of America, including section 301 of title 3, United States Code, I hereby delegate to the Secretary of State the authority under section 506(a)(1) of the Foreign Assistance Act of 1961, as amended (Public Law 87-195), to direct the drawdown of up to $18 million in defense articles and services of the Department of Defense, and military education and training, to provide assistance to the Philippines to support counterterrorism operations, and to make the determinations required under such section to direct such a drawdown.

You are authorized and directed to publish this memorandum in the Federal Register.

THE WHITE HOUSE,

Washington, November 7, 2020

[FR Doc. 2020-25860

Filed 11-19-20; 8:45 am]

Billing code 4710-10-P